GENERAL SERVICES ADMINISTRATION

41 CFR Part 301-10

[FTR Amendment 2008-02; Docket 2008-0004, Sequence 1; FTR Case 2008-301]

RIN 3090-AI46

Federal Travel Regulation; Privately Owned Automobile Mileage Reimbursement

AGENCY: Office of Governmentwide Policy, General Services Administration (GSA).

ACTION: Final rule.

SUMMARY: The General Services Administration (GSA) is amending the Federal Travel Regulation (FTR), by increasing the mileage reimbursement rate for use of a privately owned automobile (POA) when used for official travel. This new rate reflects current costs of operating a POA as determined in cost studies conducted by GSA. The governing regulation increases the mileage allowance for the cost of operating a POA for official travel from $0.485 to $0.505 per mile.

DATES: Effective Date: March 19, 2008.

FOR FURTHER INFORMATION CONTACT The Regulatory Secretariat (VPR), Room 4035, GS Building, Washington, DC, 20405, (202) 501-4755, for information pertaining to status or publication schedules. For clarification of content, contact Ms. Umeki G. Thorne, Program Analyst, Office of Governmentwide Policy, Travel Management Policy, at (202) 208-7636. Please cite FTR Amendment 2008-02; FTR case 2008-301.

SUPPLEMENTARY INFORMATION:

A. Background

Pursuant to 5 U.S.C. 5707(b), the Administrator of General Services has the responsibility to establish the privately owned vehicle (POV) mileage reimbursement rates. Separate rates are set for airplanes, automobiles (including trucks), and motorcycles. In order to set these rates, GSA is required to conduct periodic investigations, in consultation with the Secretaries of Defense and Transportation, and representatives of Government employee organizations, of the cost of travel and the operation of POVs to employees while engaged on official business. As required, GSA has conducted an investigation of the costs of operating a privately owned automobile. The results of this investigation has been reported to Congress and a copy of the report appears as an attachment to this document. The report is being published to comply with the requirements of the law. GSA's cost study shows that the Administrator of General Services has determined the per mile operating costs for official use of a privately owned automobile to be $0.505. As provided in 5 U.S.C. 5704(a)(1), the automobile reimbursement rate cannot exceed the single standard mileage rate established by the Internal Revenue Service (IRS). The IRS has announced a new single standard mileage rate for automobiles of $0.505 per mile effective January 1, 2008. GSA is currently undergoing studies to review cost analyses of operating a privately owned motorcycle and a privately owned aircraft. Consequently, the costs of operating a privately owned motorcycle and a privately owned aircraft remain unchanged at this time.

B. Executive Order 12866

This is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Part 301-10

Government employees, Travel and transportation expenses.

Dated: February 20, 2008.
Lurita Doan,
Administrator of General Services.

For the reasons set forth in the preamble, under 5 U.S.C. 5701-5709, GSA amends 41 CFR part 301-10 as set forth below:

PART 301-10—TRANSPORTATION EXPENSES

1. The authority citation for 41 CFR part 301-10 continues to read as follows:

Authority: 5 U.S.C. 5707, 40 U.S.C. 121 (c); 49 U.S.C. 40118, Office of Management and Budget Circular No. A-126, “Improving the Management and Use of Government Aircraft.” Revised April 28, 2006.

301-10.303 [Amended]

2. Amend the table in § 301-10.303, in the second column, by removing “¹$0.485” and adding “¹$0.505” in its place.

Note: The following will not appear in the Code of Federal Regulations.

Attachment to Preamble

GENERAL SERVICES ADMINISTRATION

REPORTING TO CONGRESS—THE COSTS OF OPERATING PRIVATELY OWNED AUTOMOBILES

Paragraph (b) of Section 5707 of Title 5, United States Code, requires the Administrator of General Services to periodically investigate the cost to Government employees of operating privately owned vehicles (airplanes, automobiles, and motorcycles) while on official travel, to report the results of the investigations to Congress, and to publish the report in the Federal Register. This report on the privately owned automobile mileage reimbursement rate is being published in the Federal Register. The investigations pertaining to the reimbursement rates for airplanes and motorcycles are still pending. Therefore, there are no changes to these rates at this time.

Dated: February 20, 2008.

Lurita Doan,

Administrator of General Services.

Reporting To Congress—The Costs of Operating Privately Owned Automobiles

5 U.S.C. 5707(b)(1)(A) requires that the Administrator of General Services, in consultation with the Secretary of Defense, the Secretary of Transportation, and representatives of Government employee organizations, conduct periodic investigations of the cost of travel and operation of privately owned vehicles (airplanes, automobiles, and motorcycles) to Government employees while on official travel, and report the results to the Congress at least once a year. 5 U.S.C. 5707(a)(1) requires that the Administrator of General Services issue regulations prescribing mileage reimbursement rates and determine the average, actual cost per mile for the use of each type of privately owned vehicle based on the results of these cost investigations. Such figures must be reported to the Congress within 5 working days after the cost determination has been made in accordance with 5 U.S.C. 5707(b)(2)(C).

Pursuant to the above, the General Services Administration (GSA), in consultation with the above-specified parties conducted an investigation of the cost of operating a privately owned automobile (POA). As provided in 5 U.S.C. 5704(a)(1), the automobile reimbursement rate cannot exceed the single standard mileage rate established by the Internal Revenue Service (IRS). The IRS has announced a new single standard mileage rate for POAs of $0.505, which was effective January 1, 2008. As required, GSA is reporting the results of the investigation and the cost per mile determination. Based on cost studies conducted by GSA, I have determined the per-mile operating costs of a POA to be $0.505. Reimbursement rates for the use of a privately owned airplane and a privately owned motorcycle remain unchanged at this time as these investigations are still pending.

This report to Congress on the cost of operating POAs will be published in the Federal Register.

[FR Doc. E8-5091 Filed 3-13-08; 8:45 am]

BILLING CODE 6820-14-S